DEPARTMENT OF ENERGY

[OE Docket No. EA-477]

Application To Export Electric Energy; American L&P Co dba American Light & Power

AGENCY: Office of Electricity, Department of Energy (DOE).

ACTION: Notice of Application.

SUMMARY: American L&P Co dba American Light & Power (Applicant or AL&P) has applied for authorization to transmit electric energy from the United States to Mexico pursuant to the Federal Power Act.

DATES: Comments, protests, or motions to intervene must be submitted on or before August 15, 2019.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to 202-586-8008.

SUPPLEMENTARY INFORMATION: The Department of Energy (DOE) regulates exports of electricity from the United States to a foreign country, pursuant to sections 301(b) and 402(f) of the Department of Energy Organization Act (42 U.S.C. 7151(b) and 7172(f)). Such exports require authorization under section 202(e) of the Federal Power Act (16 U.S.C. 824a(e)).

On June 28, 2019, DOE received an application from AL&P for authorization to transmit electric energy from the United States to Mexico as a power marketer for a five-year term using existing international transmission facilities. The Applicant states that its “business is a licensed retail electric provider (REP) in the purchase and sale of wholesale electricity, capacity, and ancillary services at market-based rates in the Electric Reliability Council of Texas, Inc. (ERCOT) to Industrial, Medium and Small Commercial, and Residential customers throughout the Texas ERCOT deregulated market.”

The Application states that it “does not own or control any electric power generation or transmission facilities and does not have a franchised electric power service area.” The electric energy that the Applicant proposes to export to Mexico over international electric transmission facilities would be surplus energy purchased from third parties such as electric utilities and other suppliers within the United States. The existing international transmission facilities to be utilized by the Applicant have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214). Five (5) copies of such comments, protests, or motions to intervene should be sent to the address provided above on or before the date listed above.

Comments and other filings concerning AL&P's application to export electric energy to Mexico should be clearly marked with OE Docket No. EA-477. An additional copy is to be provided directly to Scott Evans, American Light & Power, 15810 Park Ten Place, Suite 380, Houston, TX 77084.

A final decision will be made on this application after the environmental impacts have been evaluated pursuant to DOE's National Environmental Policy Act Implementing Procedures (10 CFR part 1021) and after DOE determines that the proposed action will not have an adverse impact on the sufficiency of supply or reliability of the U.S. electric power supply system.

Copies of this application will be made available, upon request, for public inspection and copying at the address provided above, by accessing the program website at http://energy.gov/node/11845, or by emailing Angela Troy at Angela.Troy@hq.doe.gov.

Signed in Washington, DC, on July 10, 2019.
Christopher Lawrence,
Management and Program Analyst, Transmission Permitting and Technical Assistance, Office of Electricity.

[FR Doc. 2019-15054 Filed 7-15-19; 8:45 am]

BILLING CODE 6450-01-P